DEPARTMENT OF THE INTERIOR

Bureau of Land Management

[OR-014-01-1610-PG; HAG-01-0227]

Meeting Notice for the Klamath Provincial Advisory Committee

AGENCY: Bureau of Land Management, Interior.

SUMMARY: The Klamath Provincial Advisory Committee (PAC) will meet at the North State Blood Center, 1876 Park Marina Drive, Redding, CA, 96001 on Thursday, September 6, 2001 from 12:45 PM to 5:30 PM and on Friday, September 7, 2001 from 8:30 AM to 2:30 PM. Among the topics to be discussed are Federal Energy Regulatory Commission relicensing of PacifiCorp facilities along the Klamath River, and Forest Reports on National Fire Planning. The entire meeting is open to the public. Information to be distributed to the Committee members is requested 10 days prior to the start of the meeting. An opportunity for public comment is scheduled for 5:00 PM to 5:30 PM on Thursday, September 6, 2001.

FOR FURTHER INFORMATION: Additional information concerning the Klamath PAC may be obtained from Teresa Raml, Field Manager, Klamath Falls Resource Area, 2795 Anderson Ave., Building 25, Klamath Falls, OR 97603, Phone Number 541-883-6916, FAX 541-884-2097, or e-mail traml@or.blm.gov.

Dated: August 3, 2001.
Teresa A. Raml,
Field Manager, Klamath Falls Resource Area.

[FR Doc. 01-21062 Filed 8-20-01; 8:45 am]

BILLING CODE 4310-33-P